DEPARTMENT OF DEFENSE

Office of the Secretary

[Docket ID DOD-2011-OS-0108]

Privacy Act of 1974; Systems of Records

AGENCY: National Security Agency/Central Security Service, Department of Defense (DoD).

ACTION: Notice to amend a system of records.

SUMMARY: The National Security Agency (NSA) is proposing to amend a system of records notice in its existing inventory of records systems subject to the Privacy Act of 1974 (5 U.S.C. 552a), as amended.

DATES: The changes will be effective on November 4, 2011 unless comments are received that would result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Anne Hill, National Security Agency/Central Security Service, Freedom of Information Act and Privacy Act Office, 9800 Savage Road, Suite 6248, Ft. George G. Meade, MD 20755-6248, or by phone at (301) 688-6527.

SUPPLEMENTARY INFORMATION: The National Security Agency/Central Security System systems of records notices subject to the Privacy Act of 1974 (5 U.S.C. 552a), as amended, have been published in the Federal Register and are available from the address in FOR FURTHER INFORMATION CONTACT.

The specific changes to the records system being amended are set forth below followed by the notice, as amended, published in its entirety. The proposed amendment is not within the purview of subsection (r) of the Privacy Act of 1974 (5 U.S.C. 552a), as amended, which requires the submission of a new or altered system report.

Dated: September 30, 2011.
Aaron Siegel,
Alternate OSD Federal Register Liaison Officer, Department of Defense.

GNSA 27

System Name:

Information Assurance Scholarship Program (November 3, 2010, 75 FR 67697).

Changes:

* * * * *

Retention and disposal:

Delete entry and replace with “Records are maintained for five years after the grant is completed and/or payment obligation as annotated in the student agreement is completed. Records are destroyed after five years by pulping, burning, shredding, or erasure or destruction of magnetic media.

* * * * *

GNSA 27

System name:

Information Assurance Scholarship Program.

System location:

National Security Agency/Central Security Service, Ft. George G. Meade, MD 20755-6000.

Categories of individuals covered by the system:

Individuals and institutions who apply for recruitment scholarships, retention scholarships or grants under the DoD Information Assurance Scholarship Program (IASP).

Categories of records in the system:

Individual information to include: Title, full name, Social Security Number (SSN), current address, permanent address, phone number, cell phone number, e-mail address, office address, office phone number, office fax number, office e-mail address; self-certification of U.S. citizenship; security clearance information; resume (to include activities such as community outreach, volunteerism, athletics, etc.); veterans status; letters of reference/recommendations; personal goal statement; list of awards and honors.

Educational information to include: Official transcripts from all schools attended; Scholastic Assessment Test (SAT) and Graduate Record Examination (GRE) test scores; list of previous schools attended and degree/certification; self-certification of enrollment status at a Center for Academic Excellence (CAE) to included anticipated date of graduation, proposed university(ies) and proposed degree to include start date, student status and anticipated date of graduation.

Work related information to include: Current supervisor's name, office title, office address, office phone number, office fax number, office e-mail address; office of primary responsibility, name, position title, office address, e-mail, and phone number; application for the position the individual will fill on completion of the program and the desired DoD Agency; and Continued Service Agreement.

Authority for maintenance of the system:

10 U.S.C. 2200, Programs; purpose; 10 U.S.C. 7045, Officers of the other armed forces; enlisted members: admission; DoDI 8500.2, Information Assurance (IA) Implementation and E.O. 9397 (SSN), as amended.

Purpose(s):

To maintain records relating to the processing and awarding of recruitment scholarships, retention scholarships or grants under the DoD Information Assurance Scholarship Program (IASP) to qualified applicants and institutions. This system is also used by management for tracking and reporting.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows: To authorized DoD hiring officials to facilitate the recruiting of DoD IASP award recipients into federal service for the purpose of fulfilling the DoD IASP mission.

Disclosure to consumer reporting agencies:

Disclosures pursuant to 5 U.S.C. 552a(b)(12), Records maintained on individuals, may be made from this system to consumer reporting agencies as defined in the Fair Credit Reporting Act (15 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

The disclosure is limited to information necessary to establish the identity of the individual, including name, address, and taxpayer identification number (Social Security Number (SSN)); the amount, status, and history of the claim; and the agency or program under which the claim arose for the sole purpose of allowing the consumer reporting agency to prepare a commercial credit report.

The DoD “Blanket Routine Uses” set forth at the beginning of the NSA/CSS compilation of systems of records notices apply to this system.

Policies and practices for storing, retrieving, accessing, retaining, and disposing of records in the system:

Storage:

Paper records in file folders and electronic storage media.

Retrievability:

Retrieved by the individual's name, SSN, institution's name and/or year of application.

Safeguards:

Buildings are secured by a series of guarded pedestrian gates and checkpoints. Access to facilities is limited to security-cleared personnel and escorted visitors only. Within the facilities themselves, access to paper and computer printouts is controlled by limited-access facilities and lockable containers. Access to electronic means is limited and controlled by computer password protection.

Retention and disposal:

Records are maintained for five years after the grant is completed and/or payment obligation as annotated in the student agreement is completed. Records are destroyed after five years by pulping, burning, shredding, or erasure or destruction of magnetic media.

System manager(s) and address:

DoD IASP Executive Administrator, National Security Agency/Central Security Service, 9800 Savage Road, Fort George G. Meade, Maryland 20755-6000.

Notification procedures:

Individuals seeking to determine whether records about themselves is contained in this record system should address written inquiries to the National Security Agency/Central Security Service, Freedom of Information Act/Privacy Act Office, 9800 Savage Road, Suite 6248, Ft. George G. Meade, Maryland 20755-6248.

Written requests should contain the individual's name, address, scholarship award year and type, and the institution attended. All requests must be signed.

Record Access procedures:

Individuals seeking access to information about themselves contained in this system should address written inquiries to the National Security Agency/Central Security Service, Freedom of Information Act/Privacy Act Office, 9800 Savage Road, Suite 6248, Ft. George G. Meade, Maryland 20755-6248.

Requests should include individual's name, address, scholarship award year and type, and the institution(s) attended. All requests must be signed.

Contesting record procedures:

The NSA/CSS rules for contesting contents and appealing initial agency determinations may be obtained by written request addressed to the National Security Agency/Central Security Service, Freedom of Information Act (FOIA)/Privacy Act Office, 9800 Savage Road, Suite 6248, Ft. George G. Meade, MD 20755-6248.

Record source categories:

Individuals, via the DoD IASP recruitment or retention application process; Centers for Academic Excellence (CAE)/Institutions via the grants application process.

Exemptions claimed for the system:

None.

[FR Doc. 2011-25702 Filed 10-4-11; 8:45 am]

BILLING CODE 5001-06-P